FEDERAL MARITIME COMMISSION

[Docket No. 00-12]

Revocation of Licenses, Provisional Licenses and Order To Discontinue Operations in U.S.-Foreign Trades for Failure To Comply With the New Licensing Requirements of the Ocean Shipping Reform Act of 1998; Notice of Issuance of Order To Show Cause

Notice is given that on December 7, 2000, the Federal Maritime Commission (“Commission”) served an Order directing 81 ocean transportation intermediaries (“OTIs”) (“Respondents”) to show cause both why their ocean transportation intermediary licenses (permanent and/or provisional) should not be revoked and why they should not be directed to discontinue their operations in the foreign trades of the United States for failure to comply with the requirements of the Ocean Shipping Reform Act of 1998, Pub. L. 105-258, 112 Stat. 1902 (“OSRA”). The Commission took this action because the Respondents still have not met new requirements effective May 1, 1999 prescribed by OSRA and the Commission's implementing rules thereunder, notwithstanding extensive efforts by the Commission to bring them into compliance.

Specifically, Respondents have been directed pursuant to sections 11 and 14 of the Shipping Act of 1984 (“1984 Act”), 46 U.S.C. app 1710 and 1713, to submit affidavits of fact and memoranda of law to show cause why: the Commission should not revoke their licenses for failure to comply with section 19 of the 1984 Act and 46 CFR Part 515; and why the Commission should not order each of them to cease and desist from operating as an OTI, including publication of any tariff, in the foreign trade of the United States.

The Order requires that affidavits of fact and memoranda of law filed by Respondents and any intervenors in support of Respondents be filed no later than January 12, 2001.

The full text of the Order may be viewed on the Commission's home page at http://www.fmc.gov, or at the Office of the Secretary, room 1046, 800 N. Capitol Street, NW., Washington, DC.

Petitions for leave to intervene may be filed in accordance with 46 CFR 502.72.

The Order to Show Cause was served on the following ocean transportation intermediaries, which have been designated Respondents in this proceeding:

A.I.F. Services, Inc. dba Agency International Forwarding, Inc.

Advante Customs Broker and Freight Forwarders Inc.

Agency International Forwarding, Inc.

Air & Sea Inc.

Airlift Container Lines, Inc.

Albatross Shipping Inc.

Allied International N.A., Inc.

Almcorp Project Transport, Inc.

Alrod International, Inc. dba Alrod Ocean Company

Andreani Corporation

Auto Export Services North America, Inc.

Auto Overseas Ltd.

Blackbird Line, Inc.

Bulkmatic Transport Company

C & F Worldwide Agency Corp.

Calico Equipment Corp. dba Global Equipment Transport

Cargo Maritime Services, Inc.

Cargo Transport, Inc.

Centra Worldwide Inc dba Cwi Container Line

Century Express, Inc.

Chin, Johnnie C. F. dba J C Express

Con-Way Intermodal, Inc.

Continental Shipping & Trading Import—Export, Inc.

Continental Van Lines, Inc. dba Continental International

Denali International, Inc.

Deugro Ocean Transport, Inc.

Dukes Systems Corp.

Excel Shipping Corp.

Exploit Express Freight Inc.

Federal Warehouse Company

Feith, Cornelis J. dba Tiger Express

Formerica Consolidation Service, Inc.

Frontier International Forwarders, Inc.

Gulf South Forest Products, Inc.

Hemisphere International Shipping, Inc.

Hopkins, James E. dba Hopkins Services

Intermare Agency Services, Inc.

Inter-American Freight Consolidators, Inc.

International Distribution, Inc.

International Trade and Logistics, Inc.

International Transport Agency dba I.T.A.

Iris Enterprises Corp. dba Iris Cargo

J.C. Express of Miami, Corp.

Johnson Storage & Moving Co.

Landstar Ranger, Inc.

Loa Int'l (USA) Transport Co. Inc.

Manna Freight Systems, Inc.

Maurice Pincoffs Company, Inc.

Millenium Logistics Services, Inc.

Nador Shipping Corporation

Naviera Mundial Inc.

Oceanic Freights, Inc.

Ocean Pacific Lines, Inc.

Og International (USA) Co., Inc.

P. H. Petry, Company

Pagoda Container Line Corp.

Poseidon Freight Forwarders, Inc. dba Poseidon Line

Professional Cargo Services Int'l Inc.

Roberto Bucci (USA) Inc.

Rolines Shipping Corp.

S.h.r. Enterprises, Inc.

S.t.s. International, Inc.

Sanchez, Carlos B. dba R & S Trading

Sea Expo Freight Services, Inc.

Sea-Land Logistics, Inc.

Seajet Express Container Line Ltd. dba Gateway Container Line

Seamax, Inc.

Sunmar Shipping, Inc. dba Sunmar Alaska Service

Taiun Company (U.S.A.) Inc.

Time Definite Services, Inc.

Trans-Alliance Int'l Fwdg. Co. dba Nova Ocean Line

Transbridge International, Inc.

Transneftegazstroy America, Inc.

Transpo Service, Ltd.

Treset Corporation

Unitrans Shipping & Air Cargo Limited

Universe Freight Brokers, Inc. dba Seacarriers

Victory Van Corporation dba Victory Van International

World Marine Services Dominicana, LLC

World Wide Cargo Logistics, Inc.

Yellow Freight System, Inc.

Bryant L. VanBrakle,
Secretary.

[FR Doc. 00-31666 Filed 12-12-00; 8:45 am]

BILLING CODE 6730-01-P